COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products previously furnished by such agencies.

DATES: Comments must be received on or before: January 21, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN—Product Name: MR 1178—Mop, Microfiber, Spin, Includes Bucket

Mandatory Source of Supply: LC Industries, Inc., Durham, NC

Mandatory for: The requirements of military commissaries and exchanges in accordance with the Code of Federal Regulations, 41 CFR 51-6.4

Contracting Activity: Defense Commissary Agency

NSN—Product Name: 6510-00-786-3736—Isopropyl Alcohol Impregnated Pad

Mandatory Source of Supply: Lighthouse Works, Orlando, FL

Mandatory for: Total Government Requirement

Contracting Activity: Defense Logistics Agency Troop Support

NSNs—Product Names:

8410-01-441-4602—Skirt, Service Dress, Air Force, Women's, Blue, 2MS

8410-01-441-5672—Skirt, Service Dress, Air Force, Women's, Blue, 16WS

8410-01-441-5742—Skirt, Service Dress, Air Force, Women's, Blue, 16WR

8410-01-441-5747—Skirt, Service Dress, Air Force, Women's, Blue, 16WL

8410-01-441-6327—Skirt, Service Dress, Air Force, Women's, Blue, 12MS

8410-01-441-6644—Skirt, Service Dress, Air Force, Women's, Blue, 12ML

8410-01-441-6695—Skirt, Service Dress, Air Force, Women's, Blue, 12WS

8410-01-441-6701—Skirt, Service Dress, Air Force, Women's, Blue, 12WL

8410-01-441-6704—Skirt, Service Dress, Air Force, Women's, Blue, 14MS

8410-01-441-6741—Skirt, Service Dress, Air Force, Women's, Blue, 14WS

8410-01-441-6744—Skirt, Service Dress, Air Force, Women's, Blue, 14WR

8410-01-441-6750—Skirt, Service Dress, Air Force, Women's, Blue, 14WL

8410-01-441-6759—Skirt, Service Dress, Air Force, Women's, Blue, 16MS

8410-01-441-7240—Skirt, Service Dress, Air Force, Women's, Blue, 18WR

8410-01-441-7243—Skirt, Service Dress, Air Force, Women's, Blue, 18WL

8410-01-441-7678—Skirt, Service Dress, Air Force, Women's, Blue, 20WR

8410-01-441-7681—Skirt, Service Dress, Air Force, Women's, Blue, 22WR

8410-01-449-5284—Skirt, Service Dress, Air Force, Women's, Blue, 6WR

8410-01-449-5286—Skirt, Service Dress, Air Force, Women's, Blue, 8WR

8410-01-449-5288—Skirt, Service Dress, Air Force, Women's, Blue, 8WL

8410-01-449-5297—Skirt, Service Dress, Air Force, Women's, Blue, 4WR

8410-00-0SK-T523—Skirt, Service Dress, Air Force, Women's, Blue, Special Measurement

Mandatory Source of Supply: North Bay Rehabilitation Services, Inc., Rohnert Park, CA

Mandatory for: 100% of the requirement of the U.S. Air Force

Contracting Activity: Defense Logistics Agency Troop Support

Service

Service Type: Mail and Supply Center Operations Service

Mandatory for: DARPA, DARPA Headquarters, 675 North Randolph Street, Arlington, VA

Mandatory Source of Supply: Linden Resources, Inc., Arlington, VA

Contracting Activity: Defense Advanced Research Projects Agency (DARPA)

Deletions

The following products are proposed for deletion from the Procurement List:

Products

NSN—Product Name: PSIN TO12M—Kit, Wee-Deliver Starter

Mandatory Source) of Supply: New Horizons Rehabilitation Services, Inc., Auburn Hills, MI

Contracting Activity: U.S. Postal Service, Washington, DC

NSNs—Product Names:

7920-01-512-4960—Mop Head, Wet, Looped-End, Anti-Microbial, 32 oz., Yellow

7920-01-512-8967—Mop Head, Wet, Looped-End, Anti-Microbial, 32 oz., White

7920-01-512-8970—Mop Head, Wet, Looped-End, Anti-Microbial, 32 oz., Red

7920-01-512-8971—Mop Head, Wet, Looped-End, Anti-Microbial, 32 oz., Orange

7920-01-512-9340—Mop Head, Wet, Looped-End, Anti-Microbial, 22 oz., Red

7920-01-512-9341—Mop Head, Wet, Looped-End, Anti-Microbial, 22 oz., Yellow

7920-01-512-9342—Mop Head, Wet, Looped-End, Anti-Microbial, 22 oz., Orange

7920-01-512-9344—Mop Head, Wet, Looped-End, Anti-Microbial, 22 oz., White

7920-01-512-9346—Mop Head, Wet, Looped-End, Anti-Microbial, 20 oz., Yellow

7920-01-513-4767—Mop Head, Wet, Looped-End, Anti-Microbial, 24 oz., Yellow

7920-01-513-4769—Mop Head, Wet, Looped-End, Anti-Microbial, 16 oz., Yellow

Mandatory Source of Supply: Alphapointe, Kansas City, MO

Contracting Activities: Department of Veterans Affairs, Strategic Acquisition Center, General Services Administration, Fort Worth, TX

Patricia Briscoe,
Deputy Director, Business Operations (Pricing and Information Management).

[FR Doc. 2017-27618 Filed 12-21-17; 8:45 am]

BILLING CODE 6353-01-P